DEPARTMENT OF ENERGY

Federal Energy Regulatory Commission

Notice of Commission Staff Attendance at Midwest ISO Meetings

August 16, 2010.

The Federal Energy Regulatory Commission hereby gives notice that members of the Commission and Commission staff may attend the following Midwest ISO-related meetings:

• Advisory Committee (10 a.m.-3 p.m., ET)

○ August 18 (St. Paul Hotel, 350 Market St., St. Paul, MN)

○ September 15

○ October 20

○ November 17

○ December 1

• Board of Directors (8:30 a.m.-10 a.m., ET)

○ August 19 (St. Paul Hotel, 350 Market St., St. Paul, MN)

○ October 21

○ December 2

• Board of Directors Markets Committee (8 a.m.-10 a.m., ET)

○ August 18 (St. Paul Hotel, 350 Market St., St. Paul, MN)

○ September 15

○ October 20

○ November 17

○ December 1

• Midwest ISO Informational Forum (3 p.m.-5 p.m., ET)

○ August 17 (St. Paul Hotel, 350 Market St., St. Paul, MN)

○ September 14

○ October 19

○ November 16

○ December 14

• Midwest ISO Market Subcommittee (9 a.m.-5 p.m., ET)

○ August 31

○ October 5

○ November 2

○ December 7

Except as noted, all of the meetings above will be held at: Midwest ISO Headquarters, 701 City Center Drive, 720 City Center Drive, and Carmel, IN 46032.

Further information may be found at http://www.midwestiso.org.

The above-referenced meetings are open to the public.

The discussions at each of the meetings described above may address matters at issue in the following proceedings:

Docket No. RM01-5, Electronic Tariff Filings

Docket No. ER02-488, Midwest Independent Transmission System Operator, Inc.

Docket Nos. ER02-2595, et al., Midwest Independent Transmission System Operator, Inc.

Docket No. ER04-375, Midwest Independent Transmission System Operator, Inc., et al.

Docket Nos. ER04-458, et al., Midwest Independent Transmission System Operator, Inc.

Docket Nos. ER04-691, EL04-104 and ER04-106, et al., Midwest Independent Transmission System Operator, Inc., et al.

Docket No. ER05-6, et al., Midwest Independent Transmission System Operator, Inc., et al.

Docket No. ER05-636, Midwest Independent Transmission System Operator, Inc.

Docket No. ER05-752, Midwest Independent Transmission System Operator, Inc. and PJM Interconnection, L.L.C.

Docket No. ER05-1047, Midwest Independent Transmission System Operator, Inc.

Docket No. ER05-1048, Midwest Independent Transmission System Operator, Inc.

Docket No. ER05-1083, et al., Midwest Independent Transmission System Operator, Inc., et al.

Docket No. ER05-1085, et al., Midwest Independent Transmission System Operator, Inc.

Docket No. ER05-1138, Midwest Independent Transmission System Operator, Inc.

Docket No. ER05-1201, Midwest Independent Transmission System Operator, Inc.

Docket No. ER05-1230, Midwest Independent Transmission System Operator, Inc.

Docket No. EL05-103, Northern Indiana Power Service Co. v. Midwest Independent Transmission System Operator, Inc. and PJM Interconnection, L.L.C.

Docket No. EL05-128, Quest Energy, L.L.C. v. Midwest Independent Transmission System Operator, Inc.

Order No. 890, Preventing Undue Discrimination and Preference in Transmission Service

Docket Nos. EC06-4 and ER06-20, LGE Energy LLC, et al.

Docket Nos. ER06-18, et al., Midwest Independent Transmission System Operator, Inc.

Docket No. ER06-22, Midwest Independent Transmission System Operator, Inc.

Docket No. ER06-27, Midwest Independent Transmission System Operator, Inc., et al.

Docket No. ER06-56, Midwest Independent Transmission System Operator, Inc.

Docket No. ER06-192, Midwest Independent Transmission System Operator, Inc.

Docket No. ER06-356, Midwest Independent Transmission System Operator, Inc.

Docket No. ER06-360, et al., Midwest Independent Transmission System Operator, Inc., et al.

Docket No. ER06-532, Midwest Independent Transmission System Operator, Inc.

Docket No. ER06-731, Independent Market Monitor for the Midwest Independent Transmission System Operator, Inc.

Docket No. ER06-866, Midwest Independent Transmission System Operator, Inc.

Docket No. ER06-881, Midwest Independent Transmission System Operator, Inc.

Docket No. ER06-1420, Midwest Independent Transmission System Operator, Inc.

Docket No. ER06-1536, Midwest Independent Transmission System Operator, Inc.

Docket No. ER06-1552, Midwest Independent Transmission System Operator, Inc.

Docket No. EL06-31, Midwest Independent Transmission System Operator, Inc., et al.

Docket No. EL06-49, Midwest Independent Transmission System Operator, Inc., et al.

Docket No. EL06-80, Midwest Independent Transmission System Operator, Inc.

Order Nos. 693 and 693-A, Mandatory Reliability Standards for Bulk-Power System

Docket No. AD07-12, Reliability Standard Compliance and Enforcement in Regions with Independent System Operators and Regional Transmission Organizations

Docket No. ER07-53, Midwest Independent Transmission System Operator, Inc.

Docket No. ER07-478, Midwest Independent Transmission System Operator, Inc.

Docket No. ER07-532, Midwest Independent Transmission System Operator, Inc.

Docket No. ER07-580, Midwest Independent Transmission System Operator, Inc.

Docket No. ER07-815, Midwest Independent Transmission System Operator, Inc.

Docket No. ER07-940, Midwest Independent Transmission System Operator, Inc., et al.

Docket No. ER07-1141, International Transmission Co., et al.

Docket No. ER07-1144, American Transmission Co. LLC, et al.

Docket No. ER07-1182, Midwest Independent Transmission System Operator, Inc.

Docket Nos. ER07-1233 and ER07-1261, Midwest Independent Transmission System Operator, Inc.

Docket No. ER07-1372, Midwest Independent Transmission System Operator, Inc.

Docket No. ER07-1375, Midwest Independent Transmission System Operator, Inc.

Docket No. ER07-1388, Midwest Independent Transmission System Operator, Inc.

Docket No. ER07-1417, Midwest Independent Transmission System Operator, Inc., et al.

Docket No. EL07-44, Dakota Wind Harvest, LLC v. Midwest Independent Transmission System Operator, Inc., et al.

Docket No. EL07-79, Midwest Independent Transmission System Operator, Inc.

Docket Nos. EL07-86, EL07-88, EL07-92, Ameren Services Co., et al. v. Midwest Independent Transmission System Operator, Inc., et al.

Docket No. EL07-100, E.ON U.S. LLC v. Midwest Independent Transmission System Operator, Inc.

Docket No. OA07-57, Midwest Independent Transmission System Operator, Inc.

Docket Nos. RR07-2, et al., Delegation Agreement Between the North American Electric Reliability Corporation and Midwest Reliability Organization, et al.

Docket No. EL08-32, Central Minnesota Municipal Power Agency and Midwest Municipal Transmission Group, Inc.

Docket No. ER08-15, Midwest ISO Transmission Owners

Docket No. ER08-55, Midwest Independent Transmission System Operator, Inc., et al.

Docket No. ER08-109, Midwest Independent Transmission System Operator, Inc.

Docket Nos. ER08-185 and ER08-186, Ameren Energy Marketing Company, et al.

Docket No. ER08-207, Midwest Independent Transmission System Operator, Inc.

Docket No. ER08-209, Midwest Independent Transmission System Operator, Inc.

Docket No. ER08-269, Midwest Independent Transmission System Operator, Inc.

Docket No. ER08-296, Midwest Independent Transmission System Operator, Inc.

Docket No. ER08-320, Midwest Independent Transmission System Operator, Inc.

Docket No. ER08-370, Midwest Independent Transmission System Operator, Inc.

Docket No. ER08-394, Midwest Independent Transmission System Operator, Inc.

Docket No. ER08-404, Midwest Independent Transmission System Operator, Inc.

Docket No. ER08-416, Midwest Independent Transmission System Operator, Inc.

Docket No. ER08-622, Midwest Independent Transmission System Operator, Inc.

Docket No. ER08-637, Midwest Independent Transmission System Operator, Inc.

Docket No. ER08-925, Midwest Independent Transmission System Operator, Inc.

Docket No. ER08-1043, Midwest Independent Transmission System Operator, Inc.

Docket No. ER08-1074, Midwest Independent Transmission System Operator, Inc.

Docket No. ER08-1169, Midwest Independent Transmission System Operator, Inc.

Docket No. ER08-1244, Midwest Independent Transmission System Operator, Inc.

Docket No. ER08-1252, Midwest Independent Transmission System Operator, Inc.

Docket No. ER08-1285, Midwest Independent Transmission System Operator, Inc.

Docket No. ER08-1309, Midwest Independent Transmission System Operator, Inc.

Docket No. ER08-1370, Midwest Independent Transmission System Operator, Inc.

Docket No. ER08-1399, Midwest Independent Transmission System Operator, Inc.

Docket No. ER08-1400, Midwest Independent Transmission System Operator, Inc.

Docket No. ER08-1401, Midwest Independent Transmission System Operator, Inc.

Docket No. ER08-1404, Midwest Independent Transmission System Operator, Inc.

Docket No. ER08-1435, Midwest Independent Transmission System Operator, Inc.

Docket No. ER08-1485, Midwest Independent Transmission System Operator, Inc.

Docket No. ER08-1486, Midwest Independent Transmission System Operator, Inc.

Docket No. ER08-1505, Midwest Independent Transmission System Operator, Inc.

Docket No. OA08-4, Midwest ISO Transmission Owners, et al.

Docket No. OA08-14, Midwest Independent Transmission System Operator, Inc.

Docket No. OA08-42, Midwest Independent Transmission System Operator, Inc.

Docket No. OA08-53, Midwest Independent Transmission System Operator, Inc.

Docket No. OA08-106, Midwest Independent Transmission System Operator, Inc.

Docket No. OA09-7, Midwest Independent Transmission System Operator, Inc.

Docket No. RM08-19, Mandatory Reliability Standards for the Calculation of Available Transfer, Capacity Benefit Margins, Transmission Reliability Margins, Total Transfer Capability, and Existing Transmission Commitments and Mandatory Reliability Standards for the Bulk Power System

Docket No. AD09-10, National Action Plan on Demand Response

Docket No. AD09-15, Version One Regional Reliability Standard for Resource and Demand Balancing

Docket No. EL09-71, Resale Power Group of Iowa, WPPI Energy

Docket No. ER09-66, Midwest Independent Transmission System Operator, Inc.

Docket No. ER09-72, Xcel Energy Operating Companies

Docket No. ER09-91, Midwest Independent Transmission System Operator, Inc.

Docket No. ER09-108, Midwest Independent Transmission System Operator, Inc.

Docket No. ER09-123, Midwest Independent Transmission System Operator, Inc.

Docket No. ER09-245, Midwest Independent Transmission System Operator, Inc.

Docket No. ER09-266, Midwest Independent Transmission System Operator, Inc.

Docket No. ER09-267, Midwest Independent Transmission System Operator, Inc.

Docket No. ER09-403, Midwest Independent Transmission System Operator, Inc.

Docket No. ER09-499, Midwest Independent Transmission System Operator, Inc.

Docket No. ER09-506, Midwest Independent Transmission System Operator, Inc.

Docket No. ER09-512, Midwest Independent Transmission System Operator, Inc.

Docket No. ER09-91, Midwest Independent Transmission System Operator, Inc.

Docket No. ER09-573, Midwest Independent Transmission System Operator, Inc.

Docket No. ER09-592, Midwest Independent Transmission System Operator, Inc.

Docket No. ER09-654, Midwest Independent Transmission System Operator, Inc.

Docket No. ER09-660, Midwest Independent Transmission System Operator, Inc.

Docket No. ER09-769, Midwest Independent Transmission System Operator, Inc.

Docket No. ER09-774, Midwest Independent Transmission System Operator, Inc.

Docket No. ER09-783, Midwest Independent Transmission System Operator, Inc.

Docket No. ER09-785, Midwest Independent Transmission System Operator, Inc.

Docket No. ER09-788, Midwest Independent Transmission System Operator, Inc.

Docket No. ER09-807, Midwest Independent Transmission System Operator, Inc.

Docket No. ER09-827, Midwest Independent Transmission System Operator, Inc.

Docket No. ER09-839, Midwest Independent Transmission System Operator, Inc.

Docket No. ER09-861, Midwest Independent Transmission System Operator, Inc.

Docket No. ER09-991, Midwest Independent Transmission System Operator, Inc.

Docket No. ER09-994, Midwest Independent Transmission System Operator, Inc.

Docket No. ER09-998, Midwest Independent Transmission System Operator, Inc.

Docket No. ER09-999, Midwest Independent Transmission System Operator, Inc.

Docket No. ER09-1049, Midwest Independent Transmission System Operator, Inc.

Docket No. ER09-1074, Midwest Independent Transmission System Operator, Inc.

Docket No. ER09-1126, Midwest Independent Transmission System Operator, Inc.

Docket No. ER09-1369, Midwest Independent Transmission System Operator, Inc.

Docket No. ER09-1396, Midwest Independent Transmission System Operator, Inc.

Docket No. ER09-1422, Midwest Independent Transmission System Operator, Inc.

Docket No. ER09-1432, Midwest Independent Transmission System Operator, Inc.

Docket No. ER09-1431, Midwest Independent Transmission System Operator, Inc.

Docket No. ER09-1435, Midwest Independent Transmission System Operator, Inc.

Docket No. ER09-1526, Midwest Independent Transmission System Operator, Inc.

Docket No. ER09-1543, Midwest Independent Transmission System Operator, Inc.

Docket No. ER09-1575, Midwest Independent Transmission System Operator, Inc.

Docket No. ER09-1581, Midwest Independent Transmission System Operator, Inc.

Docket No. ER09-1619, Midwest Independent Transmission System Operator, Inc.

Docket No. ER09-1719, Midwest Independent Transmission System Operator, Inc.

Docket No. ER09-1727, Midwest Independent Transmission System Operator, Inc.

Docket No. ER09-1769, Midwest Independent Transmission System Operator, Inc.

Docket No. ER09-1779, Midwest Independent Transmission System Operator, Inc.

Docket No. ES09-54, Midwest Independent Transmission System Operator, Inc.

Docket No. AD10-5, RTO/ISO Performance Metrics

Docket No. AD10-14, Reliability Standards Development and NERC and Regional Entity Enforcement

Docket No. EC10-39, American Transmission Company, LLC

Docket No. EF10-3, Western Area Power Administration

Docket No. EL10-41, Tatanka Wind Power, LLC v. Montana-Dakota Utilities Company, a division of MDU Resources Group, Inc.

Docket No. EL10-45, Midwest Independent Transmission System Operator, Inc. v. PJM Interconnection, LLC

Docket No. EL10-46, Midwest Independent Transmission System Operator, Inc. v. PJM Interconnection, LLC

Docket No. EL10-60, PJM Interconnection, LLC v. Midwest Independent Transmission System Operator, Inc.

Docket No. EL10-68, Resale Power Group of Iowa and WPPI Energy v. ITC Midwest LLC and Interstate Power and Light Company

Docket No. EL10-77, City of Pella, Iowa v. Midwest Independent Transmission System Operator, Inc. and MidAmerican Energy Company, Inc.

Docket No. EL10-78, PJM Interconnection, L.L.C.

Docket No. ER10-8, Midwest Independent Transmission System Operator, Inc.

Docket Nos. ER10-9, 10-73, 10-74, Dairyland Power Cooperative v. Midwest Independent Transmission System Operator, Inc.

Docket No. ER10-27, Midwest Independent Transmission System Operator, Inc.

Docket Nos. ER10-209, EL10-12, and ER10-640, Commonwealth Edison Company and Commonwealth Edison Company of Indiana, Inc. v. Midwest Independent Transmission System Operator, Inc.

Docket No. ER10-277, Midwest Independent Transmission System Operator, Inc.

Docket No. ER10-279, Midwest Independent Transmission System Operator, Inc.

Docket No. ER10-224, Midwest Independent Transmission System Operator, Inc.

Docket No. ER10-128, Midwest Independent Transmission System Operator, Inc.

Docket No. ER10-316, Midwest Independent Transmission System Operator, Inc.

Docket No. ER10-327, Dynegy Midwest Generation, Inc.

Docket No. ER10-386, Midwest Independent Transmission System Operator, Inc.

Docket No. ER10-394, Midwest Independent Transmission System Operator, Inc.

Docket No. ER10-495, Midwest Independent Transmission System Operator, Inc.

Docket No. ER10-559, Midwest Independent Transmission System Operator, Inc.

Docket No. ER10-563, Midwest Independent Transmission System Operator, Inc.

Docket No. ER10-576, Midwest Independent Transmission System Operator, Inc.

Docket No. ER10-579, Midwest Independent Transmission System Operator, Inc.

Docket No. ER10-582, Midwest Independent Transmission System Operator, Inc.

Docket No. ER10-639, Midwest Independent Transmission System Operator, Inc.

Docket No. ER10-640, Midwest Independent Transmission System Operator, Inc.

Docket No. ER10-685, Midwest Independent Transmission System Operator, Inc.

Docket No. ER10-686, Otter Tail Power Company

Docket No. ER10-687, Midwest Independent Transmission System Operator, Inc. and ALLETE, Inc.

Docket No. ER10-691, Duke Energy Indiana, Inc.

Docket No. ER10-706, Midwest Independent Transmission System Operator, Inc.

Docket No. ER10-771, Midwest Independent Transmission System Operator, Inc.

Docket No. ER10-789, Carolina Power & Light Co., and Duke Energy Carolinas, LLC

Docket No. ER10-810, Midwest Independent Transmission System Operator, Inc.

Docket No. ER10-839, Midwest Independent Transmission System Operator, Inc.

Docket No. ER10-863, Midwest Independent Transmission System Operator, Inc.

Docket No. ER10-866, Midwest Independent Transmission System Operator, Inc.

Docket No. ER10-867, Midwest Independent Transmission System Operator, Inc.

Docket No. ER10-884, Midwest Independent Transmission System Operator, Inc.

Docket No. ER10-938, Duke Energy Corporation

Docket No. ER10-953, Midwest Independent Transmission System Operator, Inc.

Docket No. ER10-957, Midwest Independent Transmission System Operator, Inc., PJM Interconnection, L.L.C., and Southwest Power Pool, Inc.

Docket No. ER10-962, Union Electric Company

Docket No. ER10-970, FirstEnergy Solutions Corp.

Docket No. ER10-978, Wolverine Power Supply Cooperative, Inc.

Docket No. ER10-980, Midwest Independent Transmission System Operator, Inc.

Docket No. ER10-990, Midwest Independent Transmission System Operator, Inc. and Dairyland Power Cooperative

Docket No. ER10-1004, Midwest Independent Transmission System Operator, Inc.

Docket No. ER10-1007, Midwest Independent Transmission System Operator, Inc.

Docket No. ER10-1024, Midwest Independent Transmission System Operator, Inc.

Docket No. ER10-1036, Midwest Independent Transmission System Operator, Inc.

Docket No. ER10-1069, Southwest Power Pool, Inc.

Docket No. ER10-1070, Midwest Independent Transmission System Operator, Inc.

Docket No. ER10-1071, Midwest Independent Transmission System Operator, Inc.

Docket No. ER10-1085, Midwest Independent Transmission System Operator, Inc.

Docket No. ER10-1086, Midwest Independent Transmission System Operator, Inc.

Docket No. ER10-1098, Midwest Independent Transmission System Operator, Inc.

Docket No. ER10-1132, Midwest Independent Transmission System Operator, Inc.

Docket No. ER10-1194, Midwest Independent Transmission System Operator, Inc.

Docket No. ER10-1244, Midwest Independent Transmission System Operator, Inc.

Docket No. ER10-1251, Midwest Independent Transmission System Operator, Inc.

Docket No. ER10-1273, Joint Pricing Zone Revenue Allocation Agreement between Great River Energy, Central Minnesota Municipal Power Agency, Northern States Power Company and Southern Minnesota Municipal Power Agency

Docket No. ER10-1296, Wisconsin Electric Power Company

Docket No. ER10-1301, Notice of Cancellation of Adjacent Balancing Authority Coordination Agreement between the Midwest ISO and Dairyland Power Cooperative

Docket No. ER10-1305, Xcel Energy Services Inc.

Docket No. ER10-1349, Midwest Independent Transmission System Operator, Inc.

Docket No. ER10-1361, Midwest Independent Transmission System Operator, Inc.

Docket No. ER10-1366, Midwest Independent Transmission System Operator, Inc.

Docket No. ER10-1377, Xcel Energy Services, Inc.

Docket No. ER10-1400, Midwest Independent Transmission System Operator, Inc.

Docket No. ER10-1413, Midwest Independent Transmission System Operator, Inc.

Docket No. ER10-1444, Midwest Independent Transmission System Operator, Inc.

Docket No. ER10-1446, Midwest Independent Transmission System Operator, Inc.

Docket No. ER10-1463, Midwest Independent Transmission System Operator, Inc.

Docket No. ER10-1485, Midwest Independent Transmission System Operator, Inc.

Docket No. ER10-1492, Midwest Independent Transmission System Operator, Inc.

Docket No. ER10-1552, Midwest Independent Transmission System Operator, Inc.

Docket No. ER10-1561, Midwest Independent Transmission System Operator, Inc.

Docket No. ER10-1562, In Re Duke Ohio

Docket No. ER10-1648, Midwest Independent Transmission System Operator, Inc.

Docket No. ER10-1666, Midwest Independent Transmission System Operator, Inc.

Docket No. ER10-1649, Midwest Independent Transmission System Operator, Inc.

Docket No. ER10-1668, Midwest Independent Transmission System Operator, Inc.

Docket No. ER10-1677, Midwest Independent Transmission System Operator, Inc.

Docket No. ER10-1696, Midwest Independent Transmission System Operator, Inc.

Docket No. ER10-1701, Ameren Services Company as Agent for Illinois Power Company

Docket Nos. ER10-1732 and ER10-1733, Midwest Independent Transmission System Operator, Inc.

Docket No. ER10-1791, Midwest Independent Transmission System Operator, Inc. and the Midwest ISO Transmission Owners

Docket No. ER10-1814, Midwest Independent Transmission System Operator, Inc.

Docket No. ER10-1913, Midwest Independent Transmission System Operator, Inc.

Docket No. ER10-1997, Midwest Independent Transmission System Operator, Inc.

Docket No. ER10-2052, Midwest Independent Transmission System Operator, Inc.

Docket No. ER10-2072, Midwest Independent Transmission System Operator, Inc.

Docket No. ER10-2080, Midwest Independent Transmission System Operator, Inc.

Docket No. ER10-2090, Midwest Independent Transmission System Operator, Inc.

Docket No. ES10-31, Midwest Independent Transmission System Operator, Inc.

Docket No. ES10-35, Integrys Energy Services, Inc. and Macquarie Cook Power Inc.

Docket No. PL10-4, Enforcement of Statutes, Orders, Rules, and Regulations

Docket No. RM09-13, Time Error Correction Reliability Standard

Docket No. RM10-9, Transmission Loading Relief Reliability Standard and Curtailment Priorities

Docket No. RM10-11, Integration of Variable Energy Resources

Docket No. RM10-13, Credit Reforms in Organized Wholesale Electric Markets

Docket No. RM10-17 and EL09-68, Demand Response Compensation in Organized Wholesale Energy Markets

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Kimberly D. Bose,
Secretary.

[FR Doc. 2010-20928 Filed 8-23-10; 8:45 am]

BILLING CODE 6717-01-P